DEPARTMENT OF JUSTICE

Amended Notice of Lodging of Proposed Consent Decrees Under the Comprehensive Environmental Response, Compensation, and Liability Act

This Notice amends and replaces the original notice published on October 05, 2015, 80 FR 192. Notice is hereby given that on September 29, 2015, a proposed Consent Decree in United States v. Wyeth Holdings LLC, Civil Action No. 3:15-cv-07153-AET, was lodged with the United States Court for the District of New Jersey. In this action brought pursuant to Sections 106, 107, and 113(g)(2) of the Comprehensive Environmental Response, Compensation, and Liability Act of 1980, 42 U.S.C. §§ 9606, 9607 and 9613(g)(2) (“CERCLA”), the United States seeks injunctive relief requiring Wyeth Holdings LLC (“Settling Defendant”) to undertake certain environmental response actions at the American Cyanamid Superfund Site (“Site”) located in Bridgewater, New Jersey. The United States also seeks to recover costs incurred and to be incurred by the United States in response to releases or threatened releases of hazardous substances at or from the Site.

The settlement requires Settling Defendant to perform the remedies selected by the Environmental Protection Agency (“EPA”) in the Records of Decision for Operable Unit 2 (“OU2”), involving revegetation, and Operable Unit 4 (“OU4”), involving the remediation of almost all site-wide soils, groundwater, and six waste disposal impoundments. The settlement also requires Settling Defendant to reimburse EPA $1,000,000 in past response costs and pay EPA's future oversight costs related to the cleanup.

The publication of this amended notice restarts a 30 day period for public comment on the Consent Decree. Comments are now due 30 days from the publication of this amended notice. Comments should be addressed to the Assistant Attorney General, Environment and Natural Resources Division, and should refer to United States v. Wyeth Holdings LLC., D.J. Ref. No. 90-11-3-07250/1. All comments must be submitted no later than thirty (30) days after the publication date of this amended notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decrees may be examined and downloaded at this Justice Department Web site: http://www.justice.gov/enrd/consent-decrees. We will provide paper copies of the consent decree upon written request and payment of reproduction costs. Please mail your request and payment to: Consent Decree Library, U.S. DOJ—ENRD, P.O. Box 7611, Washington, DC 20044-7611.

Please enclose a check or money order for $73.00 (25 cents per page reproduction cost) payable to the United States Treasury.

Robert E. Maher Jr.,
Assistant Section Chief, Environmental Enforcement Section, Environment and Natural Resources Division.

[FR Doc. 2015-25685 Filed 10-8-15; 8:45 am]

BILLING CODE 4410-15-P